DEPARTMENT OF TRANSPORTATION

Federal Aviation Administration

[Docket No. FAA-2010-0831]

Airport Improvement Program (AIP): Policy Regarding Access to Airports From Residential Property

AGENCY: Federal Aviation Administration (FAA).

ACTION: Notice of proposed policy; notice of proposed amendment to sponsor grant assurance 5; and request for public comment; correction.

SUMMARY: The FAA is correcting an inadvertent omission in the Privacy paragraph in the Notice of Proposed Policy Regarding Access to Airports From Residential Property that was published in the Federal Register on September 9, 2010 (75 FR 54946).

DATES: Effective September 22, 2010.

FOR FURTHER INFORMATION CONTACT: Randall S. Fiertz, telephone: (202) 267-3085; facsimile: (202) 267-5257; e-mail: randall.fiertz@faa.gov.

SUPPLEMENTARY INFORMATION:

Need for Correction

On September 9, 2010, the Federal Aviation Administration published a Notice of Proposed Policy in the Federal Register at 75 FR 54946 proposing to amend and clarify FAA policy concerning through-the-fence access to a Federally obligated airport from an adjacent or nearby property, when that property is used as a residence and permits continuation of existing access subject to certain standards. The Notice also proposed to amend sponsor grant assurance 5, Preserving Rights and Powers, to prohibit new residential through-the-fence access. In that Notice, there was an inadvertent omission. Through this amendment, FAA is correcting the inadvertent omission. In the Privacy section, FAA inadvertently omitted information relative to the DOT's Privacy Act Statement.

Correction

In the Notice published on September 9, 2010 (75 FR 54946) FR Doc. 2010-22095, on page 54947 in column 1,under the heading SUPPLEMENTARY INFORMATION section of this document, remove the first paragraph and in its place add the following paragraph to read as follows:

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Issued in Washington, DC, on September 17, 2010.
Randall Fiertz,
Director, Airport Compliance and Field Operations.

[FR Doc. 2010-23728 Filed 9-21-10; 8:45 am]

BILLING CODE 4910-13-P